DEPARTMENT OF COMMERCE

National Oceanic and Atmospheric Administration

RIN 0648-XD498

Mid-Atlantic Fishery Management Council (MAFMC); Public Meeting; Correction

AGENCY: National Marine Fisheries Service (NMFS), National Oceanic and Atmospheric Administration (NOAA), Commerce.

ACTION: Notice of a correction to a public meeting.

SUMMARY: The Mid-Atlantic Fishery Management Council's Spiny Dogfish Advisory Panel will meet to develop comments relative to the 2015 spiny dogfish fishing year. Comments will be reviewed by the Spiny Dogfish Monitoring Committee and the Council in their consideration of alternative management measures for the 2015 fishing year.

DATES: The meeting will be held on Monday, September 29, 2014, from 9 a.m. to 12 noon.

ADDRESSES: The meeting will be held via webinar with a listening station also available at the Council address below. Webinar link: http://mafmc.adobeconnect.com/dogfish/

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The original meeting notice published in the Federal Register on September 11, 2014 (79 FR 54268). The notice stated that the meeting would be held on Tuesday, September 29, 2014. It should have read Monday, September 29, 2014. All other previously-published information remains unchanged.

Dated: Sept 11, 2014.
Tracey L. Thompson,
Acting Deputy Director, Office of Sustainable Fisheries, National Marine Fisheries Service.

[FR Doc. 2014-22090 Filed 9-16-14; 8:45 am]

BILLING CODE 3510-22-P